DEPARTMENT OF HEALTH AND HUMAN SERVICES

National Institutes of Health

Record of Decision—National Institutes of Health, Master Plan 2003 Update, Main Campus, Bethesda, MD

AGENCY: Department of Health and Human Services, National Institutes of Health (NIH).

ACTION: Notice.

After completion of a Final Environmental Impact Statement (EIS) for the NIH Bethesda Master Plan 2003 Update and a thorough consideration of public comments on the Draft EIS, the Department of Health and Human Services, NIH, has decided to approve the Proposed Action, the Master Plan 2003 Update, as the guide for the future growth and development of the Bethesda campus. This alternative was identified as the Preferred Alternative in the Final EIS.

The Master Plan 2003 Update is a revision of the campus' 1995 Master Plan. It provides a framework for satisfying NIH's projected incremental growth needs on the Bethesda campus while ensuring long term planning and design coherence. The Update accommodates a potential growth in campus population from 17,500 to 22,000 employees by the end of the 20-year planning period. During this same period, building space on the Bethesda campus could increase from approximately 7.4 million gross square feet (gsf) to nearly 10.7 million gsf. While the Master Plan Update is a reasonable guideline for future campus development, it does not represent the pre-approval of any individual facility project. Implementation of individual projects is dependent upon the annual Federal budget process as well as the Department of Health and Human Services (DHHS) project approval process.

FOR FURTHER INFORMATION CONTACT: Mr. Ronald Wilson, Master Planner, Division of Facilities Planning, Office of Research Facilities, National Institutes of Health, 31 Center Drive, Room 3B44, MSC 2162, Bethesda, Maryland 20817-2162, telephone 301-496-5037, e-mail: wilsoron@ors.od.nih.gov.

SUPPLEMENTARY INFORMATION: The National Institutes of Health (NIH) has prepared this Record of Decision (ROD) on the Final EIS for the Master Plan 2003 Update, NIH Main Campus, Bethesda, Maryland. This ROD includes:

1. The final decision;

2. All alternatives considered, specifying the alternative or alternatives which were considered to be environmentally preferable;

3. A discussion of factors which were involved in the decision, including any essential considerations of national policy which were balanced in making the decision and a statement of how those considerations, if any, entered into the decision;

4. A statement of whether all practicable means to avoid or minimize potential environmental harm from the selected alternative have been adopted, and if not, why they were not;

5. A description of mitigation measures that will be undertaken to make the selected alternative environmentally acceptable;

6. A discussion of the extent to which pollution prevention is included in the decision and how pollution prevention measures will be implemented; and

7. A summary of any monitoring and enforcement program adopted for any mitigation measures.

Alternatives Considered

Two alternatives were identified and considered in the Final EIS. They are (1) the Proposed Action, and (2) the No Action Alternative. The Proposed Action is described above under ACTION. Under the No Action Alternative, NIH would continue to maintain and repair its existing facilities in response to Congressional actions and to address building deficiencies and accreditation and safety codes and guidelines. In addition, NIH would complete several campus building projects already in various stages of planning, design, or construction. Consequently, despite the assumed limits on campus growth implied by the No Action Alternative, total building space on campus would still increase by 1.5 million gsf by 2007, or from 7.4 million gsf to approximately 8.9 million gsf. An estimated 17,900 employees would be located on the campus under the No Action Alternative.

Various campus design alternatives and growth scenarios were identified during the development of the 1995 Master Plan, the forerunner to the Master Plan 2003 Update. Some of these design alternatives were rejected as not practical or unsuitable for the operational or physical conditions present on the campus, or because they conflicted with planning principles and goals. In the end, the design approach taken in the 2003 Update follows the 1995 Preferred Concept, with some refinements to adapt the plan to new and evolving NIH needs.

Because of its limited scope, the No Action Alternative would result in less adverse environmental impact than the Proposed Action. The Final EIS does, however, contain mitigation measures to lessen or eliminate impacts of the Proposed Action.

Factors Involved in the Decision

The primary factors involved in NIH's decision to proceed with the Proposed Action as the selected action are described below.

First, DHHS' Facilities Manual requires Operating Divisions to prepare master plans for their sites if they contain more than one principal building or activity. The manual also requires periodic master plan updates as new conditions arise or as circumstances dictate. In addition, under Section 5 of the National Capital Planning Act, Federal agencies in the National Capital Region are required to prepare master plans for their installations and update them every five years. The Master Plan 2003 Update satisfies DHHS and National Capital Planning Commission (NCPC) master planning requirements.

In addition, based on analyses in the Draft and Final EISs, the selected action best satisfies the proposal's Purpose and Need, as described in the EIS. The purpose of the Master Plan Update is to provide guidance for the orderly and comprehensive physical development of the Bethesda campus so that NIH can continue to perform its mission, which is to conduct biomedical research, educate and train researchers, assist in the transfer of biotechnology, and disseminate biomedical and related information to help improve and extend the lives and enhance the welfare of the American people. The master plan also recognizes that NIH is part of a larger Bethesda community and that its activities have the potential to negatively impact surrounding residential communities if not carefully designed and controlled. In this respect, the master plan serves as a vehicle for educating and informing local, state, and federal authorities of NIH's long term facility objectives for its Bethesda campus so these authorities can align their own plans and proposals with the ideas presented in the plan. The master planning process also assists NIH in identifying and attending to community concerns related to NIH development.

Finally, the Master Plan 2003 Update helps NIH create an environment conducive for the achievement of NIH research goals. One of the major factors in NIH's ability to accomplish its mission is its success in recruiting, attracting, and retaining highly qualified senior scientists and promising young investigators, many of which are part of NIH's Intramural Research Program (IRP) based at the Bethesda campus. Dedicated and talented research staff, state-of-the-art research and research support facilities, quality employee amenities and services, and an attractive and open academic-like campus environment that encourages intellectual exchange are considered vital to a successful IRP. The Master Plan 2003 Update provides a well-conceived conceptual framework for the physical development of the Bethesda campus enabling NIH to provide the conditions necessary to compete over the long term with academia and industry for quality researchers.

From an environmental perspective, the Master Plan 2003 Update will result in minor to negligible disruption to the physical and biological environment. In instances where unavoidable adverse environmental effects are anticipated, the potential adverse impacts will be mitigated through compliance with existing state and Federal regulatory requirements, application of Best Management Practices (BMPs), implementation of a campus Transportation Management Plan, adherence to the 1992 Memorandum of Understanding (MOU) between NIH, the Montgomery County Planning Board, and NCPC regarding parking and traffic, and construction contract requirements that limit construction-related effects.

Practicable Means To Avoid or Minimize Potential Environmental Harm From the Selected Alternative

All practicable means to avoid or minimize adverse environmental effects from the selected action have been identified and incorporated into the action. As noted above, these include compliance with existing regulatory requirements, application of BMPs, implementation of a Transportation Management Plan, adherence to the 1992 MOU, and construction contract requirements that limit construction-related effects, such as dust, noise, and traffic.

Mitigation Measures

During the preparation of the Final EIS several potential environmental issues associated with implementation of the Proposed Action were identified. These included land use (land disturbance), construction-related noise, dust, and traffic, transportation (traffic and parking), noise generated from new NIH facilities, terrestrial vegetation (removal of mature trees), cultural (historic and archaeological resources and potential impacts on National Register eligible properties), and pollution prevention/waste management (handling and disposal of solid, mixed/hazardous, and medical/pathological waste generated during facility operations). NIH determined that these potential adverse impacts were capable of being mitigated through compliance with existing local, state, and Federal regulatory requirements, application of BMPs, adherence to established local/Federal agreements, and construction contract requirements.

Pollution Prevention

In accordance with DHHS General Administration Manual Part 30, Environmental Protection (dated February 25, 2000), pollution prevention is a major focus of the Master Plan Update and will also be incorporated into the design, construction, and operation of future NIH facilities. Pollution prevention measures incorporated in the selected action include:

• Expanding upon NIH's program to segregate and minimize solid, mixed/hazardous, and medical/pathological waste;

• Requiring BMPs during construction of new facilities;

• Incorporating new state-of-the-art, energy efficient, and environmental-friendly systems in new facilities; and

• Enforcing NIH's Transportation Management Plan.

Monitoring and Enforcement Program for Mitigation Measures

Since potential adverse impacts would be mitigated by compliance with existing regulatory requirements, application of BMPs, and adherence to agreements and construction contract requirements, existing reporting requirements and contract administration procedures will serve in lieu of a formal Monitoring and Enforcement Program.

Conclusion

Based upon careful review and consideration of the impacts identified in the Final EIS; public comments received throughout the National Environmental Policy Act process, including comments on the Draft EIS; and other relevant factors, such as DHHS and NCPC master planning requirements, NIH has decided to approve the Proposed Action, the Master Plan 2003 Update as the guide for future growth and development of its Bethesda Main Campus.

Dated: June 23, 2005.
Leonard Taylor, Jr.,
Director, Office of Research Facilities, National Institutes of Health.

[FR Doc. 05-13147 Filed 7-1-05; 8:45 am]

BILLING CODE 4140-01-P